CORPORATION FOR NATIONAL AND COMMUNITY SERVICE

Agency Information Collection Activities; Submission to the Office of Management and Budget for Review and Approval; Comment Request; Generic Information Collection Request for the Collection of Qualitative Feedback on Agency Service Delivery; Proposed Information Collection; Comment Request

AGENCY: Corporation for National and Community Service.

ACTION: Notice.

SUMMARY: The Corporation for National and Community Service (CNCS) has submitted a public information collection request (ICR) entitled Generic Information Collection Request for Qualitative Feedback on Agency Service Delivery for review and approval in accordance with the Paperwork Reduction Act of 1995. Copies of this ICR, with applicable supporting documentation, may be obtained by calling the Corporation for National and Community Service, Amy Borgstrom, at 202-606-6930 or email to aborgstrom@cns.gov. Individuals who use a telecommunications device for the deaf (TTY-TDD) may call 1-800-833-3722 between 8:00 a.m. and 8:00 p.m. Eastern Time, Monday through Friday.

DATES: Comments may be submitted, identified by the title of the information collection activity, by October 5, 2017.

ADDRESSES: Comments may be submitted, identified by the title of the information collection activity, to the Office of Information and Regulatory Affairs, Attn: Ms. Sharon Mar, OMB Desk Officer for the Corporation for National and Community Service, by any of the following two methods by 30 days from the date of publication in the Federal Register:

(1) By fax to: 202-395-6974, Attention: Ms. Sharon Mar, OMB Desk Officer for the Corporation for National and Community Service; or

(2) By email to: smar@omb.eop.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on June 26, 2017 at 82 FR 28830. This comment period ended August 25, 2017. No public comments were received from this Notice.

Description: This collection was developed as part of a federal government-wide effort to streamline the process for seeking feedback from the public on agency service delivery.

Type of Review: Renewal.

Agency: Corporation for National and Community Service.

Title: Generic Clearance for the Collection of Qualitative Feedback on Agency Service Delivery.

OMB Number: 3045-0137.

Agency Number: None.

Affected Public: Individuals and Households; Businesses and Organizations; State, Local or Tribal Governments.

Total Respondents: 10,000.

Frequency: Once.

Average Time per Response: 10 minutes.

Estimated Total Burden Hours: 1,667 hours.

Total Burden Cost (capital/startup): None.

Total Burden Cost (operating/maintenance): None.

Dated: August 30, 2017.
Mary Hyde,
Director, Research and Evaluation.

[FR Doc. 2017-18746 Filed 9-1-17; 8:45 am]

BILLING CODE 6050-28-P